DEPARTMENT OF TRANSPORTATION

Federal Highway Administration

Environmental Impact Statement: Pueblo, Otero, Bent, and Prowers Counties, CO

AGENCY: Federal Highway Administration (FHWA), DOT.

ACTION: Notice of intent.

SUMMARY: The FHWA is issuing this notice to advise the public that a Tier 1 Environmental Impact Statement (EIS) for proposed transportation improvements in Pueblo County, Otero County, Bent County and Prowers County in the State of Colorado.

FOR FURTHER INFORMATION CONTACT: Mr. Chris Horn, Senior Operations Engineer, FHWA, Colorado Division, 12300 West Dakota Ave., Suite 180, Lakewood, CO, 80228, Telephone: (720) 963-3017. Mr. Mike Perez, Project Manager, Colorado Department of Transportation, Region 2, 905 Erie Avenue, P.O. Box 536, Pueblo, CO 81002, Telephone: (719) 546-5406.

SUPPLEMENTARY INFORMATION: The FHWA and the Colorado Department of Transportation (CDOT), will prepare a Tier 1 Environmental Impact Statement (EIS) for transportation improvements on U.S Highway 50 between Pueblo, Colorado, and the vicinity of the Kansas State line in southeastern Colorado.

U.S. is a coast-to-coast highway recognized by the state of Colorado as a vital link in the statewide transportation system. The U.S. 50 corridor is approximately 150 miles long and connects four counties and ten municipalities. The communities along this corridor have primarily agricultural based economies. The proposed improvements to this section of U.S. 50 are intended to improve safety as well as local, regional, and statewide mobility. The proposed improvements will also consider access management strategies.

The Tier 1 EIS will incorporate the results of a 2003 CDOT corridor planning study that culminated in a long-term community-developed vision for the U.S. 50 corridor. The vision called for a safer roadway, on or near the exiting U.S. 50, that maintains a reasonable traffic flow and speed for the movement of people and goods along and through the Lower Arkansas Valley while providing flexibility to accommodate future transportation needs. Since 2003, additional coordination with local agencies and the public has resulted in resolutions of support from all four counties and ten communities and execution of a Memorandum of Understanding with local representatives defining community roles and responsibilities in the development of the Tier 1 EIS. FHWA and CDOT have also consulted with 11 other Federal and state agencies that have agreed to participate throughout the development of the Tier 1 EIS. These agencies have formally adopted a Charter Agreement that establishes clear expectations, identifies roles and responsibilities, describes procedures that support collaborative problem-solving in a timely manner at key project milestones, and defines an issue resolution process. The corridor planning study and agency charter agreement will be made available for review during the public and agency scoping process described below.

The Tier 1 EIS will evaluate alternative corridor locations and improvements and the No-Action alternative based upon the purpose and need. Alternatives will be developed and analyzed through an extensive agency and community outreach process. Anticipated decisions to be made during the Tier 1 EIS include modal choice, selection of a preferred general corridor location for U.S. 50, evaluation of access management and corridor preservations strategies, and a plan for further action. The Tier 1 EIS will also identify segments of independent utility. Based on the decisions reached during the Tier 1 process, FHWA and CDOT may proceed with Tier 2 studies for specific projects within those segments.

The public, as well as Federal, state, and local agencies, will be invited to participate in project scoping to ensure that a full range of alternatives is considered and that all appropriate environmental issues and resources are evaluated. The scoping process will include opportunities to provide comments on the purpose and need for the project, potential alternatives, and social, economic and environmental issues of concern. Public scoping will be accomplished through public meetings and other community outreach opportunities at locations throughout the project corridor. The time and place for these meetings will be announced in the local media. It is anticipated that public and agency scoping will occur in early 2006.

Based upon input from the scoping process, FHWA will evaluate social, economic, and environmental impacts of the corridor alternatives and the No-Action alternative. It is expected that major issues to be evaluated include: water quality, historic and other cultural resources, economic impacts, and farmland issues. The Tier 1 EIS will be available for public and agency review and comment. Information concerning the availability of the EIS will be published.

To ensure that the ful range of issues related to this proposed action are addressed and all significant issues identified, comments and suggestions are invited from all interested parties. Comments or questions concerning this proposed action and the EIS should be directed to the FHWA or the Colorado Department of Transportation at the addresses provided above.

(Catalog of Federal Domestic Assistance Program Number 20.205, Highway Planning and Construction. The regulations implementing Executive Order 12372 regarding intergovernmental consultation on Federal programs and activities apply to this program.)
Issued on: January 24, 2006.
David A. Nicol,
Division Administrator, Colorado Division, Federal Highway Administration, Lakewood, Colorado 80228.

[FR Doc. 06-822 Filed 1-27-06; 8:45 am]

BILLING CODE 4910-22-M